DEPARTMENT OF COMMERCE

National Oceanic and Atmospheric Administration

RIN 0648-XA847

Fisheries of the Caribbean, Gulf of Mexico, and South Atlantic; Reef Fish Fishery of the Gulf of Mexico; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from the Louisiana Department of Wildlife and Fisheries (LDWF). If granted, the EFP would authorize the applicant to collect and retain red snapper that would otherwise be prohibited from possession and retention. This study, to be conducted in the exclusive economic zone (EEZ) of the Gulf of Mexico (Gulf), is intended to better document the age structure and life history of fish associated with offshore platforms and artificial reefs in Louisiana coastal waters.

DATES: Comments must be received no later than 5 p.m., eastern time, on June 22, 2012.

ADDRESSES: You may submit comments on the application by any of the following methods:

• Email: 0648-XA847.LDWF@noaa.gov. Include in the subject line of the email comment the following document identifier: ALDWF_EFP@.

• Mail: Steve Branstetter, Southeast Regional Office, NMFS, 263 13th Avenue South, St. Petersburg, FL 33701.

The application and related documents are available for review upon written request to any of the above addresses.

FOR FURTHER INFORMATION CONTACT: Steve Branstetter, 727-824-5305; email: Steve.Branstetter@noaa.gov.

SUPPLEMENTARY INFORMATION: The EFP is requested under the authority of the Magnuson-Stevens Fishery Conservation and Management Act (16 U.S.C. 1801 et seq.), and regulations at 50 CFR 600.745(b) concerning exempted fishing.

The described research is part of a new research program by LDWF. The research is intended to involve recreational fishermen in the collection of fundamental biological information of Gulf red snapper. The proposed collection for scientific research involves activities that could otherwise be prohibited by regulations at 50 CFR part 622, as they pertain to reef fish managed by the Gulf of Mexico Fishery Management Council (Council). The applicant requires authorization through the EFP to collect these Council-managed species that may be taken as part of the normal fishing activities of the recreational sector of the Gulf reef fish fishery. LDWF has requested an EFP from July through October 2012, to monitor red snapper caught during recreational fishing tournaments held in Texas, Louisiana, Alabama, and Florida subsequent to the closure of the 2012 recreational red snapper season. LDWF is requesting that selected participants, in as many as seven recreational fishing tournaments, be allowed to retain and tag the first red snapper caught during a fishing trip. Participants would also complete and submit a data sheet regarding other red snapper caught and released during the fishing trip. Fish collected under this EFP would be surrendered to LDWF personnel or other state fishery biologists, and sampled for length, weight, otoliths, and gonads. LDWF would be responsible for providing all data collected under the EFP to NMFS for use in the next stock assessment. The intent is to better document the age structure and life history of red snapper in the Gulf of Mexico. If approved, the EFP would authorize the take of approximately 1,600 red snapper during the five-month period. Such fish collected as biological samples would not be subject to seasonal closures or size limits.

NMFS finds this application warrants further consideration. Possible conditions the agency may impose on this permit, if it is indeed granted, include but are not limited to, a prohibition of conducting research within marine protected areas, marine sanctuaries, or special management zones, without additional authorization. A report on the research would be due at the end of the collection period, to be submitted to NMFS and reviewed by the Council.

A final decision on issuance of the EFP will depend on NMFS's review of public comments received on the application, consultations with the affected states, the Council, and the U.S. Coast Guard, as well as a determination that it is consistent with all applicable laws.

Authority: 16 U.S.C. 1801 et seq.

Dated: May 17, 2012.
Carrie Selberg,
Acting Director, Office of Sustainable Fisheries, National Marine Fisheries Service.

[FR Doc. 2012-12516 Filed 5-22-12; 8:45 am]

BILLING CODE 3510-22-P